DEPARTMENT OF COMMERCE

Census Bureau

2002 Economic Census Construction Sector Refile Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 2, 2001.

ADDRESSES: Direct all written comments to Madeleine Clayton, Departmental Forms Clearance Officer, Department of Commerce, Room 6086, 14th and Constitution Avenue, NW., Washington, DC 20230 (or via the Internet at mclayton@doc.gov).

FOR FURTHER INFORMATION CONTACT: Requests for additional information or copies of the information collection instrument(s) and instructions should be directed to James E. Kristoff, Bureau of the Census, Room 2129, Building 4, Washington, DC 20233-6100, and 301-457-4631 or email at James.E.Kristoff@census.gov.

SUPPLEMENTARY INFORMATION:

I. Abstract

The Census Bureau is the preeminent collector of timely, relevant and quality data about the people and economy of the United States. Economic data are the Census Bureau's primary program commitment during non-decennial census years. The economic census, conducted under authority of Title 13 U.S.C., is the primary source of facts about the structure and functioning of the Nation's economy and features unique industry and geographic detail. Economic census statistics serve as part of the framework for the national accounts and provide essential information for government, business and the general public.

The 2002 North American Industry Classification System (NAICS) will introduce a major revision to the construction sector. In order to update the 2002 Economic Census mailing list, the Census Bureau must collect additional information from selected construction businesses. This information will permit us to introduce an efficient sample, minimizing the reporting burden we impose on construction establishments.

These changes to NAICS for the construction sector will be implemented in the 2002 Economic Census. The failure to collect this additional classification information prior to the economic census would substantially increase the number of sampled construction establishments, result in many businesses receiving the incorrect form, and jeopardize the Census Bureau's ability to implement NAICS in the economic census.

II. Method of Collection

The Census Bureau will mail out Form NC-9926 to the following groups of establishments: (1) any single unit construction establishment that is only partially coded or (2) any single unit construction establishment that is currently classified in a NAICS industry that will be split into two or more NAICS industries for the 2002 Economic Census.

The form will contain a list of codes and descriptions describing diverse construction activities. Respondents simply check the box that best describes their business activity or describe their business activity if no box is appropriate.

III. Data

OMB Number: Not Available.

Form Number: NC-9926.

Type of Review: Regular Review.

Affected Public: Businesses or Other for Profit Organizations, Small Businesses or Organizations, Non-profit Institutions, and State or Local Governments.

Estimated Number of Respondents: 150,000.

Estimated Time Per Response: 5 minutes.

Estimated Total Annual Burden Hours: 12,500 hours.

Estimated Total Annual Cost: $190,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 23, 2001.
Madeleine Clayton,
Departmental Forms Clearance Officer.

[FR Doc. 01-2525 Filed 1-29-01; 8:45 am]

BILLING CODE 3510-07-P